DEPARTMENT OF ENERGY

Federal Energy Regulatory Commission

Combined Notice of Filings #2

Take notice that the Commission received the following electric rate filings:

Docket Numbers: ER10-1414-004; ER10-1406-005; ER10-1416-005.

Applicants: Quantum Auburndale Power, LP, Quantum Lake Power, LP, Quantum Pasco Power, LP.

Description: Notification of Non-Material Change in Status of the Quantum Entities.

Filed Date: 5/13/13.

Accession Number: 20130513-5101.

Comments Due: 5 p.m. ET 6/3/13.

Docket Numbers: ER12-1821-002.

Applicants: Colorado Highlands Wind, LLC.

Description: Notification of Non-Material Change in Status of COLORADO HIGHLANDS WIND, LLC.

Filed Date: 5/13/13.

Accession Number: 20130513-5110.

Comments Due: 5 p.m. ET 6/3/13.

Docket Numbers: ER13-1475-000.

Applicants: Massachusetts Electric Company.

Description: Interconnection Agreement Between MECo and Highland Power for Attleboro Landfill to be effective 7/10/2013.

Filed Date: 5/13/13.

Accession Number: 20130513-5000.

Comments Due: 5 p.m. ET 6/3/13.

Docket Numbers: ER13-1481-000.

Applicants: PJM Interconnection, L.L.C.

Description: First Revised Service Agreement No. 3397; Queue No. W2-030 to be effective 4/22/2013.

Filed Date: 5/13/13.

Accession Number: 20130513-5042.

Comments Due: 5 p.m. ET 6/3/13.

Docket Numbers: ER13-1482-000.

Applicants: Southwestern Public Service Company.

Description: 2013-5-13_SPS-DSEC-Sub #1 CA-643-0.1.0-NOC to be effective 5/14/2013.

Filed Date: 5/13/13.

Accession Number: 20130513-5111.

Comments Due: 5 p.m. ET 6/3/13.

Docket Numbers: ER13-1483-000.

Applicants: Florida Power & Light Company.

Description: Florida Power & Light Company submits tariff filing per 35.13(a)(2)(iii: FPL and Orlando Utilities Commission Service Agreement No. 314 to be effective 6/13/2013.

Filed Date: 5/13/13.

Accession Number: 20130513-5150.

Comments Due: 5 p.m. ET 6/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2013.
Nathaniel J. Davis, Sr.,
Deputy Secretary.

[FR Doc. 2013-11902 Filed 5-17-13; 8:45 am]

BILLING CODE 6717-01-P